ENVIRONMENTAL PROTECTION AGENCY

40 CFR Part 434

[FRL-6730-7]

Extension of Comment Period for Coal Mining Point Source Category; Amendments to Effluent Limitations Guidelines and New Source Performance Standards; Proposed Rule

AGENCY: Environmental Protection Agency.

ACTION: Notice of extension of comment period for proposed rule.

SUMMARY: EPA is extending the comment period for the proposed amendments to effluent limitations guidelines and new source performance standards for the coal mining point source category. The proposed rule was published in the Federal Register on April 11, 2000 (65 FR 19439). The comment period for the proposed rule is extended by 60 days, ending on September 8, 2000. This extension is being granted while taking into consideration the court-ordered promulgation deadline for the final rule.

DATES: Comments on the proposed rule will be accepted through September 8, 2000.

ADDRESSES: Send written comments to John Tinger (4303); U.S. Environmental Protection Agency; Ariel Rios Building; 1200 Pennsylvania Ave., N.W.; Washington, DC 20460. Comments delivered by hand should be brought to Room 615, West Tower; 401 M Street, S.W.; Washington, DC. Please submit any references cited in your comments. Submit an original and three copies of your written comments and enclosures. No facsimiles (faxes) will be accepted. For information on how to submit electronic comments, see the SUPPLEMENTARY INFORMATION section below.

FOR FURTHER INFORMATION CONTACT: For additional technical information, contact John Tinger at (202) 260-4992 or at Tinger.John@epa.gov. For additional economic information, contact Kristen Strellac at (202) 260-6036 or at Strellac.Kristen@epa.gov.

SUPPLEMENTARY INFORMATION: On April 11, 2000, EPA published proposed amendments to effluent limitations guidelines and new source performance standards for the coal mining industry in the Federal Register for public review and comment (65 FR 19439). The comment period was scheduled to end July 10, 2000.

EPA has received requests to extend the comment period to allow more time for public comment. While EPA believes the initial comment period of 90 days was adequate, to accommodate these requests EPA is extending the comment period 60 days, through September 8, 2000.

In addition to accepting hard-copy written comments, EPA will also accept comments submitted electronically. Electronic comments must be submitted as a Word Perfect 5/6/7/8 or ASCII file and must be submitted to Tinger.John@epa.gov.

Under a consent decree entered by the U.S. District Court for the District of Columbia, EPA is scheduled to promulgate the final rule by December 2001. See 65 FR 19442. While this deadline is feasible even with this extension of the comment period, EPA would not support any further extension of the comment period.

Dated: June 29, 2000.
J. Charles Fox,
Assistant Administrator for Water.

[FR Doc. 00-17069 Filed 7-5-00; 8:45 am]

BILLING CODE 6560-50-P